DEPARTMENT OF DEFENSE

Department of the Army

Availability for Non-Exclusive, Exclusive, or Partially Exclusive Licensing of U.S. Patent Concerning Method for Production of Plasmodium Causing Relapsing Malaria

AGENCY: U.S. Army Medical Research and Materiel Command, DOD.

ACTION: Notice.

SUMMARY: In accordance with 37 CFR 404.6, announcement is made of the availability for licensing of U.S. Patent No. 6,090,614 entitled “Method for Production of Plasmodium Causing Relapsing Malaria,” issued 07/18/00. Foreign rights are also available (PCT/US97/13770). This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: This invention provides for recycling parasites and maintaining long-term cultures of P.vivax and P.ovale. Preferred conditions include: (1) The immediate transfer of parasites to human reticulocytes during the first and second in vitro culture cycles, (2) the use of McCoy's 5A medium modified with L-glutamine containing 25 mM HEPES buffer supplemented with 20% human AB serum, (3) the continual addition of reticulocytes to the culture every 34-44 hours after the beginning of a new culture cycle and (4) the use of alternate static (growth and differentiation phase) and shaker (invasin phase) culture.

Luz D. Ortiz,
Army Federal Register Liaison Officer.

[FR Doc. 02-1644 Filed 1-22-02; 8:45 am]

BILLING CODE 3710-08-M